DEPARTMENT OF DEFENSE

Office of the Secretary

[Docket ID DoD-2009-OS-0128]

Privacy Act of 1974; System of Records

AGENCY: Office of the Secretary, DoD.

ACTION: Notice to delete two Systems of Records.

SUMMARY: The Office of the Secretary of Defense is deleting two systems of records notices from its existing inventory of record systems subject to the Privacy Act of 1974, (5 U.S.C. 552a), as amended.

DATES: This proposed action will be effective without further notice on September 18, 2009 unless comments are received which result in a contrary determination.

ADDRESSES: Send comments to the Privacy Act Officer, Office of Freedom of Information, Washington Headquarters Services, 1155 Defense Pentagon, Washington, DC 20301-1155.

FOR FURTHER INFORMATION CONTACT: Mrs. Cindy Allard at (703) 588-6830.

SUPPLEMENTARY INFORMATION: The Office of the Secretary of Defense systems of records notices subject to the Privacy Act of 1974, (5 U.S.C. 552a), as amended, have been published in the Federal Register and are available from the address above.

The Office of the Secretary of Defense proposes to delete two system of records notices from its inventory of record systems subject to the Privacy Act of 1974 (5 U.S.C. 552a), as amended. The proposed deletions are not within the purview of subsection (r) of the Privacy Act of 1974, (5 U.S.C. 552a), as amended, which requires the submission of a new or altered system report.

Dated: August 12, 2009.
Patricia L. Toppings,
OSD Federal Register Liaison Officer, Department of Defense.

Deletions:

WUSU 06, USUHS Family Practice Medical Records (February 22, 1993, 58 FR 10920).

Reason

Based on the review of WUSU 06, and discussion with the system manager and HA Privacy POC, it has been concluded that the USUHS Family Practice Medical Records are covered under the umbrella SORN, DHA 07 (Military Health Information System). HA/GC supports the determination to delete WUSU 06.

DWHS P20, Report of Personnel Assigned Outside of Department of Defense (February 22, 1993, 58 FR 10227).

Reason

Review of DWHS P20, and a discussion with the program manager, revealed that no PII is solicited in the process and that records are not retrieved by name. This collection of information is not a Privacy Act system of records and does not require a system of records notice; therefore, DWHS P20 can be deleted.

[FR Doc. E9-19864 Filed 8-18-09; 8:45 am]

BILLING CODE 5001-06-P